DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 04-018.

Applicant: University of California, Los Alamos National Laboratory, PO Box 1663, Los Alamos, New Mexico 87545.

Instrument: Hydraulic Press.

Manufacturer: Osterwalder AG, Switzerland.

Intended Use: The instrument is intended to be used to compress ceramic and metallic powders of actinide elements into fissile cylindrical pellets which are irradiated and then evaluated for linear heat generation, thermal conductivity, mechanical integrity and radiation tolerance in conjunction with research on suitability as nuclear fuels.

Application accepted by Commissioner of Customs: October 12, 2004.

Docket Number: 04-020.

Applicant: Johns Hopkins University, 3400 N. Charles Street, Baltimore, MD 21218.

Instrument: Dual-beam Focused Ion Beam System, Model Number Nova 600 NanoLab (FP 22067/31).

Manufacturer: FEI Company, The Netherlands.

Intended Use: The instrument is intended to be used to study:

1. New microcircuitry that employs spin currents and conventional electrical currents to carry and store information,

2. Development of new stencil mask methods of lateral nanostructure fabrication,

3. Fabrication of high performance cantilevers for atomic force and magnetic force microscopy,

4. The mechanisms of cell adhesion and growth on nonoengineered surfaces,

5. The dynamics of materials' surfaces.

Application accepted by Commissioner of Customs: October 20, 2004.

Docket Number: 04-021.

Applicant: The J. David Gladstone Institutes, 365 Vermont Street, San Francisco, CA 94103.

Instrument: Electron Microscope, Model JEM-1230.

Manufacturer: JEOL Ltd., Japan.

Intended Use: The instrument is intended to be used to examine biological samples from mice and tissue culture to study the effects of manipulating specific genes in genetically altered mice to determine specific cellular pathways and their relevance to human disease and the consequence of altering these pathways. It will also be used as a quality control check for the homogeneity of generated protein-lipid complexes.

Application accepted by Commissioner of Customs: October 29, 2004.

Gerald A. Zerdy,
Program Manager, Statutory Import Programs Staff.

[FR Doc. E4-3201 Filed 11-16-04; 8:45 am]

BILLING CODE 3510-P